ENVIRONMENTAL PROTECTION AGENCY

[FRL-7084-7]

Announcement of Availability of the Final Version of the “Handbook of Groundwater Protection and Cleanup Policies for RCRA Corrective Action”

AGENCY: Environmental Protection Agency (EPA).

ACTION: Notice of availability.

SUMMARY: The intent of this notice is to announce the availability of the final version of the “Handbook of Groundwater Protection and Cleanup Policies for RCRA Corrective Action.” The Office of Solid Waste, in partnership with EPA Region III's Waste and Chemicals Management Division, developed this Handbook as part of the RCRA Cleanup Reforms efforts that EPA announced in July 1999 and January 2001. The primary objectives of these reforms are to promote faster, focused and more flexible cleanups, and foster creative solutions to improve program implementation. EPA's goal for this Handbook is that it will help meet these objectives by reducing time-consuming uncertainties and confusion about EPA's current policies concerning groundwater protection and cleanup at RCRA facilities.

Topics addressed in the Handbook include: Groundwater protection and cleanup strategy; short-term protection goals; intermediate performance goals; final cleanup goals; groundwater cleanup levels; point of compliance; cleanup timeframes; source control; groundwater use designations; institutional controls; monitored natural attenuation; technical impracticability; reinjection of contaminated groundwater; performance monitoring; and, completing groundwater remedies.

This final version of the Handbook is available for immediate use by all stakeholders. However, it is important to recognize that issuing this Handbook does not foreclose further discussion concerning groundwater polices for the RCRA Corrective Action Program. On the contrary, we hope that this Handbook will spur new dialogues that will lead to improvements in groundwater protection and cleanup in general. Furthermore, we recognize that continued dialogue on these important topics could result in changes to the policies in this Handbook. So, we intend to revise the document as needed to help ensure that it reflects current Agency positions.

FOR FURTHER INFORMATION CONTACT: You can view the comments we received in response to a 60-day public review of an April 27, 2000 draft version of the Handbook, as well as other supporting materials, at the RCRA Information Center (RIC), located at Crystal Gateway I, First Floor, 1235 Jefferson Davis Highway, Arlington, VA. The RIC is open from 9 a.m. to 4 p.m., Monday through Friday, excluding federal holidays. To review docket materials, we recommend that you reference the docket number F-2000-CURA-FFFFF and make an appointment by calling 703-603-9230. You may copy a maximum of 100 pages from any regulatory docket at no charge. Additional copies cost $0.15 per page. The index and some supporting materials are available electronically.

If you would like to receive a hard copy of the Handbook, please call the RCRA Hotline at 800-424-0346 or TDD 800-553-7672 (hearing impaired). In the Washington, DC, metropolitan area, call 703-412-9810 or TDD 703-412-3323. However, we designed the Handbook to be a useful resource in an Internet-based electronic format. For example, the Handbook contains numerous internal and external “hyperlinks” to help you navigate within the document and to take you directly to the more detailed guidance documents concerning individual topic areas. We also designed the Handbook to be easily updated because we recognize that the policies may evolve as our understanding of complex issues associated with groundwater protection and cleanup increases. Therefore, we urge you to access an electronic version of the Handbook at http://www.epa.gov/correctiveaction so you can take full advantage of the “hyperlinks” feature and make sure you are reading the most current version.

While this is the final version of the Handbook, we will continue to welcome public comment at any time. For more detailed information on specific aspects of document, or to submit comments that we will consider in any future revisions, contact Guy Tomassoni, Office of Solid Waste 5303W, U.S. Environmental Protection Agency, 1200 Pennsylvania Avenue NW, Washington, DC 20460, (703-308-8622), (tomassoni.guy@epa.gov).

SUPPLEMENTARY INFORMATION: In general, stakeholder comments received on the draft version were supportive of the purpose and format of the Handbook. Here is how this final version responds to some of the major comments we received on the April 2000 draft we issued for public comment:

The Handbook now includes a Groundwater Protection and Cleanup Strategy that conveys EPA's overall goals and approaches for dealing with contaminated groundwater at RCRA facilities, and serves as a common focus for other policies addressed in the Handbook. For example, the Strategy emphasizes EPA's long-standing general expectation that final cleanups return usable groundwater to its maximum beneficial use where practicable. However, the Strategy also conveys that using meaningful and measurable short-term and intermediate goals (where appropriate) often make sense as part of an overall phased approach to address contaminated groundwater.

The Handbook now describes how a different “point of compliance” for groundwater cleanups might be appropriate depending on the particular goal (short-term, intermediate, or final) a facility and overseeing regulator are pursuing.

The Handbook clearly conveys the need for facilities to control sources (using treatment technologies for “principal threats”) so as to reduce or eliminate, to the extent practicable, further releases of hazardous waste or hazardous constituents that may pose a threat to human health and the environment.

Consistent with EPA's long-standing policies, the Handbook continues to recognize that there can be various uses and purposes of groundwater, and that regulators and facilities should consider these uses and purposes (and associated exposures), as appropriate, in implementing facility-specific corrective action. However, the Handbook recognizes that most states identify the majority of their groundwaters as actual or potential sources of drinking water, and therefore have their own requirements and policies aimed at cleaning up contaminated groundwater so that it will be suitable for drinking water purposes.

We thank those that took the time to comment on the draft version of the Handbook, and we look forward to continued interactions concerning groundwater protection and cleanup.

Dated: October 3, 2001.
Elizabeth Cotsworth,
Director, Office of Solid Waste.

[FR Doc. 01-26092 Filed 10-16-01; 8:45 am]

BILLING CODE 6560-50-P